DEPARTMENT OF THE INTERIOR

Bureau of Land Management

[ID-200-1120-PH]

Notice of August Resource Advisory Council Meeting To Be Held in Twin Falls District, Idaho

SUMMARY: This notice announces the intent to hold a Resource Advisory Council (RAC) meeting in the Twin Falls District of Idaho on Tuesday, August 9, 2005. The meeting will be held in the Conference Room at the Burley BLM Fire Building, 3600 South Overland Avenue, in Burley, Idaho.

SUPPLEMENTARY INFORMATION: The Twin Falls District Resource Advisory Council consists of the standard fifteen members residing throughout south central Idaho. Meeting agenda items will include updates on the Proposed Cotterel Mountain Wind Power Project, Blaine County Travel Plan, proposed seeding projects in the Burley Field Office Area, a recommendation regarding issuance of a weed free feed program on Idaho BLM lands, and a report from the Blaine County Airport Re-location sub-group. Other potential topics may also arise.

FOR FURTHER INFORMATION CONTACT: Sky Buffat, Twin Falls District, Idaho, 2536 Kimberly Road, Twin Falls, Idaho 83301, (208)735-2068.

Dated: June 28, 2005.
Howard Hedrick,
Twin Falls District Manager.

[FR Doc. 05-13241 Filed 7-5-05; 8:45 am]

BILLING CODE 4310-GG-P